DEPARTMENT OF ENERGY

Office of Fossil Energy; The City of Burbank, California, Public Service Department, et al.; Orders Granting Authority To Import and Export Natural Gas, Including Liquefied Natural Gas

[FE Docket No. 00-07-NG; 00-13-NG; 00-16-NG; 00-15-NG; 00-14-NG]

AGENCY: Office of Fossil Energy, DOE.

ACTION: Notice of Orders.

SUMMARY: The Office of Fossil Energy (FE) of the Department of Energy gives notice that during March 2000, it issued Orders granting authority to import and export natural gas, including liquefied natural gas. These Orders are summarized in the attached appendix and may be found on the FE web site at http://www.fe.doe.gov., or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8:00 a.m. and 4:30 p.m., Monday through Friday, except Federal holidays.

Issued in Washington, DC on April 27, 2000.
John W. Glynn,
Manager, Natural Gas Regulation, Office of Natural Gas & Petroleum Import & Export Activities, Office of Fossil Energy.

Appendix

Orders Granting Import/Export Authorizations

DOE/FE Authority
Order No. | Date issued | Importer/Exporter FE docket No. | Import volume | Export volume | Comments
1572 | 3/06/00 | The City of Burbank, California, Public Service Department 00-07-NG | 4.8 Bcf |  | Import from Canada beginning on January 1, 2000, and extending through December 31, 2001.
1574 | 3/13/00 | Public Service Company of New Hampshire 00-13-NG | 20 Bcf | (40)(1) | Import and export from and to Canada over a two-year term beginning on the date of first delivery.
1575 | 3/20/00 | Coral LNG, Inc, 00-16-LNG | 800 |  | BcfImport LNG from various sources over a two-year term beginning on the date of first delivery.
1576 | 3/22/00 | POCO Marketing Ltd, 00-15-NG | 250 | Bcf | Import from Canada over a two-year term beginning on the date of first delivery after March 31, 2000.
1577 | 3/22/00 | Gasoducto Rosarito, S. de R.L. de C. V., 00-14-NG | 155 Bcf |  | Export to Mexico over a two-year term beginning on the date of first delivery.

[FR Doc. 00-11581 Filed 5-8-00; 8:45 am]

BILLING CODE 6450-01-P